DEPARTMENT OF HEALTH AND HUMAN SERVICES

Centers for Medicare and Medicaid Services

[Document Identifier: CMS-10073, CMS-R-290, CMS-1557]

Agency Information Collection Activities: Submission for OMB Review; Comment Request

AGENCY: Centers for Medicare and Medicaid Services. In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

(1) Type of Information Collection Request: New Collection; Title of Information Collection: Survey of Rural Medicare Providers Regarding Provider Education Needs; Form No.: CMS-10073 (OMB #0938-NEW); Use: The Division of Provider Education and Training, Centers for Medicare and Medicaid Services (CMS), is requesting Office of Management and Budget (OMB) approval to conduct a survey of the provider education needs of rural Medicare providers. CMS has contracted The Lewin Group to develop and field the survey instrument, analyze and synthesize the information collected, and present findings and recommendations to help CMS better understand the provider education needs of rural providers. The study will also provide an assessment of the specific and unique education challenges faced by rural Medicare providers and the success of current education methods in meeting those challenges; Frequency: Other: One-time; Affected Public: Business or other for-profit and not-for-profit institutions; Number of Respondents: 1,832; Total Annual Responses:1,832; Total Annual Hours: 608.

(2) Type of Information Collection Request: Extension of a currently approved collection; Title of Information Collection: Procedures for Making National Coverage Decisions; Form No.: CMS-R-0290 (OMB #0938-0776); Use: These information collection requirements provide the process CMS will use to make a national coverage decision for a specific item or service under sections 1862 and 1871 of the Social Security Act. This will streamline our decision making process and will increase the opportunities for public participation in making national coverage decisions; Frequency:Recordkeeping, other (as needed); Affected Public: Business or other for-profit, not-for-profit institutions; Number of Respondents: 200; Total Annual Responses: 200; Total Annual Hours: 8,000.

(3) Type of Information Collection Request: Extension of a currently approved collection; Title of Information Collection: Survey Report Form Clinical Laboratory Improvement Amendments (CLIA) and Supporting Regulations in 42 CFR 493.1—493.2001; Form No.: CMS-1557 (OMB #0938-0544); Use: CLIA requires the Department of Health and Human Services (DHHS) to establish certification requirements for any laboratory that performs tests on human specimens, and to certify through the issuance of a certificate that those laboratories meet the requirements established by DHHS. The information collected on this survey form is used in the administrative pursuit of the Congressionally-mandated program with regard to regulation of laboratories participating in CLIA. In order for the State survey agency to report to CMS its findings on facility compliance with the individual standards on which CMS determines compliance, the surveyor completes the Survey Report Form. The Survey Worksheet provides space to document the surveyor's notes; Frequency: Biennially; Affected Public: Business or other for profit, not for profit institutions, and State, local or tribal government; Number of Respondents: 26,500; Total Annual Responses: 13,250; Total Annual Hours: 6,625.

To obtain copies of the supporting statement and any related forms for the proposed paperwork collections referenced above, access CMS Web Site address at http://cms.hhs.gov/regulations/pra/default.asp, or E-mail your request, including your address, phone number, OMB number, and CMS document identifier, to Paperwork@cms.hhs.gov, or call the Reports Clearance Office on (410) 786-1326. Written comments and recommendations for the proposed information collections must be mailed within 30 days of this notice directly to the OMB desk officer: OMB Human Resources and Housing Branch, Attention: Brenda Aguilar, New Executive Office Building, Room 10235, Washington, DC 20503.

Dated: December 6, 2002.
Julie Brown,
Acting, Paperwork Reduction Act Team Leader, CMS Reports Clearance Officer, Office of Strategic Operations and Regulatory Affairs, Division of Regulations Development and Issuances.

[FR Doc. 02-31547 Filed 12-13-02; 8:45 am]

BILLING CODE 4120-03-P